Proclamation 7541 of April 12, 2002

Jewish Heritage Week, 2002

By the President of the United States of America

A Proclamation

Throughout our Nation's history, America has benefited from a greatly diverse population, comprising a vibrant mix of ideas, religions, national origins, and ethnic backgrounds. And from this mix, we have inherited a Nation based on democratic principles, free enterprise, and the freedom to pursue a better way of life.

Jewish Americans have played an important part in the success of the American experience. They have dedicated themselves to the challenges of building a better America; and their patriotism, hard work, and faithful commitment to community and family have enriched our culture and improved our country.

Since our Nation's founding, millions of Jews have immigrated to America, embracing the promise of opportunity and tolerance that forms the heart of the American dream. Jews fled persecution, pogroms, and the horrors of deadly prejudice to begin new lives where they could worship in freedom, prosper in society, and realize their dreams in peace. They also brought with them a spirit of faith and a strong work ethic that enhanced our culture and promoted national prosperity.

The Jewish community in America has helped shape our Nation's heritage and further our efforts toward building a land where all people can live free and be treated equally under the law. As entrepreneurs and public servants, scholars and philanthropists, and countless other callings, Jewish Americans have provided wisdom, energy, and leadership wherever they settled and in whatever calling they followed.

During the early days of our Republic, President George Washington wrote to the Hebrew congregations of Philadelphia, New York, Charleston, and Richmond, to say that “The power and goodness of the Almighty were strongly manifested in the events of the late glorious revolution: and His kind interposition in our behalf, has been no less visible in the establishment of our present equal government. In war He directed the sword, and in peace He has ruled in our councils.” President Washington's message is equally applicable today, as we engage in our war against terrorism and work to establish a lasting peace in the Middle East.

In celebrating Jewish Heritage Week, we reflect with joy upon the many contributions Jewish Americans have made to the arts, education, industry, science, and our very way of life. The values and traditions of Judaism have contributed greatly to our culture and history; and they have played a major role in the success of our great Nation.

NOW, THEREFORE, I, GEORGE W. BUSH, President of the United States of America, by virtue of the authority vested in me by the Constitution and laws of the United States, do hereby proclaim April 14 through 21, 2002, as Jewish Heritage Week. I urge all Americans to learn about the history of Jewish Americans and to participate in activities that highlight the accomplishments of these citizens.

IN WITNESS WHEREOF, I have hereunto set my hand this twelfth day of April, in the year of our Lord two thousand two, and of the Independence of the United States of America the two hundred and twenty-sixth.

B

[FR Doc. 02-9607

Filed 4-16-02; 8:45 am]

Billing code 3195-01-P